SOCIAL SECURITY ADMINISTRATION

[Docket No. SSA-2025-0031]

Privacy Act of 1974; Matching Program

AGENCY: Social Security Administration (SSA).

ACTION: Notice of a new matching program.

SUMMARY: In accordance with the provisions of the Privacy Act, as amended, this notice announces a new matching program with the Office of Personnel Management (OPM). Under this matching program, OPM will disclose civil service benefit and payment data to SSA. SSA will use the match results under this agreement to meet its civil service benefit offset obligations. SSA is legally required to offset Disability Insurance (DI) benefits under the Old-Age, Survivors, Disability Insurance program, and Supplemental Security Income (SSI) benefits and Special Veterans' Benefits (SVB), by a percentage of the benefit recipients' Federal Government retirement or disability benefits.

DATES: Submit comments on the proposed matching program no later than August 18, 2025.

The matching program will be applicable on September 14, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2025-0031 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2025-0031 and then submit your comments. The system will issue you a tracking number to confirm your submission. You will not be able to view your comment immediately because we must post each submission manually. It may take up to a week for your comments to be viewable.

2. Fax: Fax comments to (833) 410-1631.

3. Mail: Matthew Ramsey, Executive Director, Office of Privacy and Disclosure, Law and Policy, Social Security Administration, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Andrea Huseth, Division Director, Office of Privacy and Disclosure, Law and Policy, Social Security Administration, 6401 Security Boulevard, Baltimore, MD 21235-6401, at telephone: (410) 608-9675, or send an email to Andrea.Huseth@ssa.gov.

SUPPLEMENTARY INFORMATION: None.

Matthew Ramsey,
Executive Director, Office of Privacy and Disclosure, Office of the General Counsel, Law and Policy.

PARTICIPATING AGENCIES:

SSA and OPM.

AUTHORITY FOR CONDUCTING THE MATCHING PROGRAM:

The legal authority for SSA to conduct this matching activity for SSI purposes is sections 1631(e)(1)(B) and (f) of the Social Security Act (Act) (42 U.S.C. 1383(e)(1)(B) and (f)). The legal authority for SVB purposes is section 806 of the Act (42 U.S.C. 1006). The legal authority for SSA to conduct this matching activity for DI includes section 224 of the Act (42 U.S.C. 424a), which provides for the reduction of Social Security disability benefits when the disabled worker is also entitled to a Public Disability Benefit.

Section 1631(f) of the Act (42 U.S.C. 1383(f)) requires Federal agencies to furnish SSA with information necessary to verify eligibility for benefits. Section 224(h)(1) of the Act (42 U.S.C. 424a(h)(1)) requires any Federal agency to provide SSA with information in its possession that SSA may require for making a timely determination of the amount of reduction under section 224 of the Act (42 U.S.C. 424a).

PURPOSE(S):

This agreement sets forth the terms and conditions under which OPM will disclose civil service benefit and payment data to SSA. SSA will use the match results under this agreement to meet its civil service benefit offset obligations.

CATEGORIES OF INDIVIDUALS:

The individuals whose information is involved in this matching program are those individuals who are receiving civil service benefits and payments as well as either SSI or SVB benefits, or DI benefits.

CATEGORIES OF RECORDS:

OPM will provide SSA with an electronic file containing civil service benefit and payment data from the annuity and survivor master file. Each month, OPM will provide SSA with an electronic file that will include updated payment information for new civil service annuitants and annuitants whose civil service annuity has changed. This monthly file contains approximately 25,000 records. OPM will provide SSA with the entire master annuity file of approximately 2.7 million records once yearly for the month of the civil service cost-of-living allowance. OPM will furnish SSA with the following civil service benefit and payment data: payment status code; name; Social Security number (SSN); date of birth; civil service claim number; first potential month and year of eligibility; first month, day, and year of entitlement; disability indicator; Federal Insurance Contributions Act covered months indicator; total service months; amount of current gross civil service benefits; effective date (month, day, and year) of civil service amount; SSNs for disabled children; retroactive payments; and payments that are currently coded `special pay'.

SYSTEM(S) OF RECORDS:

OPM will provide SSA with an electronic file containing civil service benefit and payment data from the annuity and survivor master files. OPM's SOR applicable to this matching activity is OPM/Central-1 Civil Service Retirement and Insurance Records, as published at 73 FR 15013 (March 20, 2008) and amended at 80 FR 74815 (November 30, 2015). SSA will conduct the match using the individual's SSN, name, and date of birth on both the OPM file and SSA's databases covered under the following SSA SORs: the Master Files of SSN Holders and SSN Applications (Enumeration System), 60-0058, as published at 90 FR 10025 (February 20, 2025); the Supplemental Security Income Record and Special Veterans Benefits Record (SSR/SVB), 60-0103, as published at 71 FR 1830 (January 11, 2006), and amended at 72 FR 69723 (December 10, 2007), 83 FR 31250-31251 (July 3, 2018), 83 FR 54969 (November 1, 2018), 89 FR 825 (January 5, 2024), and 89 FR 14554 (February 27, 2024); and the Master Beneficiary Record (MBR), 60-0090, as published at 71 FR 1826 (January 11, 2006), and amended at 72 FR 69723 (December 10, 2007), 78 FR 40542 (July 5, 2013), 83 FR 31250-31251 (July 3, 2018), 83 FR 54969 (November 1, 2018), 89 FR 825 (January 5, 2024), and 89 FR 14554 (February 27, 2024).

[FR Doc. 2025-13409 Filed 7-16-25; 8:45 am]

BILLING CODE 4191-02-P